DEPARTMENT OF EDUCATION

Applications for New Awards; Promoting the Readiness of Minors in Supplemental Security Income (PROMISE) Technical Assistance Center

AGENCY: Office of Special Education and Rehabilitative Services, Department of Education.

ACTION: Notice.

Overview Information

Promoting the Readiness of Minors in Supplemental Security Income (PROMISE) Technical Assistance Center

Notice inviting applications for a new award for fiscal year (FY) 2014.

Catalog of Federal Domestic Assistance (CFDA) Number: 84.418T

DATES: Applications Available: April 21, 2014.

Deadline for Transmittal of Applications: June 5, 2014.

Deadline for Intergovernmental Review: August 4, 2014.

Full Text of Announcement

I. Funding Opportunity Description

Purpose of Program: Promoting the Readiness of Minors in Supplemental Security Income (PROMISE) is a joint initiative of the U.S. Department of Education, the U.S. Social Security Administration, the U.S. Department of Health and Human Services, and the U.S. Department of Labor. PROMISE is intended to improve the provision and coordination of services and supports for child Supplemental Security Income (SSI) recipients and their families to enable them to achieve improved outcomes and reduce their long-term reliance on SSI payments. In FY 2013, the Department funded six three-year model demonstration projects (MDPs) with an option for two additional years based on performance, for a total of five years under the PROMISE program. The purpose of this priority is to provide technical assistance to assist MDPs in the implementation of their projects and to increase their capacity to improve services and supports to child SSI recipients and their families. For further information about this program, please see the notice inviting applications for PROMISE published in the Federal Register on May 21, 2013 at 78 FR 29733 and the PROMISE Web site at www.ed.gov/promise.

Priority: We are establishing this priority for the FY 2014 grant competition in accordance with section 437(d)(1) of the General Education Provisions Act (GEPA), 20 U.S.C. 1232(d)(1).

Absolute Priority: This priority is an absolute priority. Under 34 CFR 75.105(c)(3), we consider only applications that meet this priority.

Background

The purpose of this priority is to fund one cooperative agreement for up to 48 months to establish and operate a PROMISE Technical Assistance Center (Center). The Center will provide technical assistance (TA) to the PROMISE program MDPs to support the implementation of these projects and increase their capacity to improve services and supports to child SSI recipients and their families.

In FY 2013, the Department funded six five-year MDPs under the PROMISE program to improve the education and employment outcomes of child SSI recipients and their families that may eventually lead to increased economic self-sufficiency and a reduction in their dependence on SSI payments. Each MDP must address several core features, including the: (a) Development of strong and effective partnerships; (b) coordination of transition services and supports for child SSI recipients and their families; and (c) management of data collection and tracking of the MDPs' performance.

On the Department's behalf, the American Institutes for Research conducted a TA needs assessment of the MDPs, which identified the need for TA in addressing these core features. Specifically, the MDPs expressed the need for TA to train interagency coordinators and manage interagency systems, better engage parents and families, and ensure fidelity of implementation of MDP services and supports. In addition, MDP staff indicated needs for various areas of expertise (e.g., dropout prevention, mental health services, secondary transition evidence-based practices, scaling up evidence-based practices, and postsecondary education for youth with disabilities and their families).

TA is necessary to assist MDPs in meeting the requirement that they establish formal partnerships in their respective States among agencies and organizations involved in implementing services and supports for child SSI recipients and their families. TA in this area would assist MDPs in forming effective partnerships across multiple stakeholders, coordinating and managing systems across agencies, and supporting a shared leadership approach with interactions coalescing around issues, relevant participation, and collaboration (Cashman et al., 2014).

MDPs also need TA on coordinating services and supports for child SSI recipients and their families. The need for TA in this area in particular is evident given the findings of a recent U.S. Government Accountability Office (GAO) report (GAO-12-594) (hereafter “GAO, 2012”), describing the gaps in the coordination of transition support services provided by Federal, State, and local governments, as well as the limitations of the current structure of services to help child SSI recipients transition from high school to postsecondary education and competitive employment. The GAO concluded that it is difficult for providers to coordinate services across different programs (GAO, 2012).

Furthermore, TA focused on engaging parents specifically, as indicated in the MDP needs assessment, would support the MDPs in increasing their capacity to reach and provide services to the families of participating children. The GAO's findings on the difficulty faced by parents in navigating different transition programs for their children with disabilities support the need for TA in this area (GAO, 2012). In addition, the GAO indicated that families lacked sufficient information about, or awareness of, the full range of service options available after high school for students with disabilities (GAO, 2012). Given the nature of SSI eligibility criteria and the varied geographic locations of the MDPs, TA may also help MDPs reach underserved families, including those with limited English proficiency, or who are of Native American descent. For these reasons, TA would help MDPs address a particularly challenging set of issues for these populations of families and meet the requirements of the program.

MDPs also indicated that they could benefit from assistance in conducting formative evaluations consistent with their data collection plans. SSA has funded a national evaluator to conduct a rigorous evaluation of the MDPs using a randomized controlled trial design. However, the MDPs must independently conduct formative evaluations of their activities and some have hired their own evaluators. The Center must work with all evaluators to ensure coordinated TA, services, and products. In addition, since the MDPs will use these formative evaluations to assess their progress and inform their decision-making, they will benefit from receiving TA in data collection and the tracking of their performance. They will also need to receive TA to ensure they are implementing their models with fidelity.

To address the identified areas of need for TA, the Center funded under this priority will work in concert with each MDP to address the goals of the PROMISE program.

Priority

The purpose of this priority is to fund a cooperative agreement to establish and operate a PROMISE Technical Assistance Center (Center) that supports PROMISE Model Demonstration Projects (MDPs). At a minimum, the Center must meet the following expected outcomes:

(a) Improved skills of State and local personnel to support partnerships among agencies responsible for administering programs that provide services to MDP SSI recipients and their families.

(b) Improved implementation of interventions for MDP SSI recipients and their families, including a coordinated set of services and supports designed to improve the education and employment outcomes of MDP SSI recipients and their families.

(c) Increased knowledge that supports training to the families of participating children about—

(1) The parents' role in supporting and advocating for their children's education and employment goals; and

(2) Resources for improving the education and employment outcomes of the parents and the economic self-sufficiency of the family.

(d) Improved methods to develop and implement a plan for conducting a formative evaluation of each MDP activity and model, consistent with the proposed logic model and data collection plan, to assess the MDP's performance and progress in achieving its goals and inform decision making.

(e) Improved methods for collecting data and the capacity to track and manage MDP information, such as service participation and documentation sufficient to replicate MDPs.

In addition to these programmatic requirements, to be considered for funding under this priority, applicants must meet the application and administrative requirements in this priority. The Office of Special Education Programs (OSEP) encourages innovative approaches to meeting the following requirements:

(a) Demonstrate, in the narrative section of the application under “Significance of the Project,” how the proposed Center will—

(1) Address the gaps and weaknesses of each MDP in forming partnerships, delivering services and supports for child SSI recipients and their families, conducting formative evaluations to allow for mid-course corrections, and providing TA and training for applicable State, regional, and local staff. To meet this requirement the applicant must—

(i) Demonstrate how the Center will analyze applicable State, regional, and local data to identify the training and information needs of each MDP in order to address gaps and weaknesses in forming partnerships, delivering services and supports for child SSI recipients and their families, conducting formative evaluations, and providing TA to MDP staff;

(ii) Demonstrate knowledge of current and previous issues and policy initiatives relating to the provision and coordination of services and supports for child SSI recipients and their families that enable them to achieve improved educational and employment outcomes and economic self-sufficiency; and

(iii) Present the best available information on promising strategies and practices, including, where available, evidence of the effectiveness of the proposed strategies and practices, related to the provision and coordination of services and supports for child SSI recipients and their families.

(2) Result in each MDP's improved ability and capacity to form partnerships, deliver services and supports for child SSI recipients and their families, conduct formative evaluations allowing for mid-course corrections, and provide TA and training for applicable State, regional, and local staff.

(b) Demonstrate, in the narrative section of the application under “Quality of the Project Services,” how the proposed Center will—

(1) Identify the needs of each MDP for TA and information that will improve the provision and coordination of services and supports for child SSI recipients and their families that result in changed educational and employment outcomes and economic self-sufficiency;

(2) Ensure equal access and treatment for members of groups that have traditionally been underrepresented based on race, color, national origin, gender, age, or disability. To meet this requirement, the applicant must describe how it will ensure that products and services meet the needs of the intended recipients and are produced in accessible formats and languages;

(3) Achieve its goals, objectives, and intended outcomes. To meet this requirement, the applicant must provide—

(i) Measurable intended outcomes for the proposed Center; and

(ii) The logic model by which the proposed Center will achieve its intended outcomes;

(4) Use a conceptual framework to develop project plans and activities, describing any underlying concepts, assumptions, expectations, beliefs, or theories, as well as the presumed relationships or linkages among them, and any empirical support for this framework;

(5) Be based on current research and make use of evidence-based practices. To meet this requirement, the applicant must describe—

(i) The current research on the effectiveness of partnerships (e.g., interagency collaboration), and a coordinated set of services and supports designed to improve the education and employment outcomes and economic self-sufficiency of child SSI recipients and their families (e.g., case management, benefits counseling, work-based learning experiences, parent training and information);

(ii) The current research about adult learning principles and implementation science and how this information will be used to provide training and TA to the MDPs; and

(iii) How the proposed Center will incorporate current research and evidence-based practices in the development and delivery of its TA and services;

(6) Develop products and provide services that are of high quality and sufficient intensity and duration to achieve the intended outcomes of the proposed Center. To address this requirement, the applicant must describe—

(i) How it proposes to identify or develop the knowledge base of current research and evidence-based practices designed to improve the education and employment outcomes and economic self-sufficiency of child SSI recipients and their families;

(ii) Its proposed approach to targeted, specialized TA,¹ which must identify the intended recipients of the products and services under this approach; and

¹ As used in this priority, “targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iii) Its proposed approach to intensive, sustained TA,² which must identify—

² As used in this priority, “intensive, sustained TA” means TA services often provided onsite and requiring a stable, ongoing relationship between the TA center staff and the TA recipient. “TA services” are defined as a negotiated series of activities designed to reach a valued outcome. This category of TA should result in changes to policy, program, practice, or operations that support increased recipient capacity or improved outcomes at one or more systems levels.

(A) The intended recipients of the products and services under this approach;

(B) Its proposed plan for assisting applicable State, regional, and local agencies with training systems that include professional development based on adult learning principles and coaching; and

(C) Its proposed plan for working with applicable State, regional, and local agencies to ensure communication among all levels to support interagency collaboration, resource and data sharing consistent with the consent requirements in the Family Educational Rights and Privacy Act (FERPA) and the Individuals with Disabilities Education Act confidentiality of information provisions ³ and any other Federal and State laws or regulations that govern the privacy or confidentiality of student information, and innovative methods of service and support provision;

³ If agencies are sharing data contained in education records, the requirements in FERPA and the IDEA FERPA and its implementing regulations); and 20 U.S.C. 1417(c) and 34 CFR §§ 300.610-300.626 (IDEA confidentiality of information provisions).

(7) Develop products and implement services that maximize each MDP's efficiency. To address this requirement, the applicant must describe—

(i) How the proposed Center will use technology to achieve its intended outcomes;

(ii) With whom the proposed Center will collaborate and the intended outcomes of this collaboration; and

(iii) How the proposed Center will use non-project resources to achieve its intended outcomes.

(c) Demonstrate, in the narrative section of the application under “Quality of the Evaluation Plan,” how—

(1) The proposed Center will collect and analyze data on specific and measurable goals, objectives, and intended outcomes of the Center. To address this requirement, the applicant must describe its—

(i) Proposed evaluation methodologies, including instruments, data collection methods, and analyses; and

(ii) Proposed standards or targets for determining effectiveness.

(2) The Center will use the evaluation results to examine the effectiveness of its implementation and its progress toward achieving intended outcomes; and

(3) The methods of evaluation will produce quantitative and qualitative data that demonstrate whether the Center achieved its intended outcomes.

(d) Demonstrate, in the narrative section of the application under “Adequacy of Project Resources,” how—

(1) The proposed Center will encourage applications for employment from persons who are members of groups that have traditionally been underrepresented based on race, color, national origin, gender, age, or disability, as appropriate;

(2) The proposed key Center personnel, consultants, and subcontractors have the qualifications and experience to carry out the proposed activities and achieve the Center's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the Center's intended outcomes will be achieved on time and within budget. To address this requirement, the applicant must describe—

(i) Clearly defined responsibilities for key Center personnel, consultants, and subcontractors, as applicable; and

(ii) Timelines and milestones for accomplishing the Center's tasks;

(2) How key personnel and any consultants and subcontractors will be allocated to the Center and how these allocations are appropriate and adequate to achieve the Center's intended outcomes;

(3) The proposed management plan will ensure that the products and services provided are of high quality; and

(4) The proposed Center will benefit from a diversity of perspectives, including those of child SSI recipients and their families; agencies and organizations (e.g., State VR service providers, Workforce Development service providers, Medicaid service providers, Temporary Assistance for Needy Families service providers, developmental and intellectual disabilities service providers, mental health service providers); State educational agency officials as well as educators (e.g., special education and related services personnel under Part B of IDEA, transition personnel); TA providers; researchers; and policy makers, among others, in its development and operation.

(f) Address the following application requirements. The applicant must—

(1) Include in Appendix A a logic model that depicts, at a minimum, the goals, activities, outputs, and intended outcomes of the proposed Center. A logic model communicates how a Center will achieve its intended outcomes and provides a framework for both the formative and summative evaluations of the Center.

Note: The following Web sites provide more information on logic models: www.researchutilization.org/matrix/logicmodel_resource3c.html and www.tadnet.org/pages/589;

(2) Include in Appendix A a conceptual framework for the Center;

(3) Include in Appendix A person-loading charts and timelines, as applicable, to illustrate the management plan described in the narrative;

(4) Include in the budget attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two, two-day trips annually to attend Department briefings, Department-sponsored conferences, and other meetings, as requested by OSEP; and

(iv) A one-day intensive review meeting in Washington, DC, during the first half of the second year of the project period;

(5) Maintain a Web site that meets government or industry-recognized standards for accessibility.

Third and Fourth Years of the Project

In deciding whether to continue funding the Center for the third and fourth years, the Secretary will consider the requirements of 34 CFR 75.253(a), as well as—

(a) The recommendation of a review team consisting of experts selected by the Secretary. This review will be conducted during a one-day intensive meeting that will be held during the first half of the second year of the project period;

(b) The timeliness and effectiveness with which all requirements of the negotiated cooperative agreement have been or are being met by the Center; and

(c) The quality, relevance, and usefulness of the Center's products and services and the extent to which the project's products and services are aligned with its project's objectives and likely to result in the Center achieving its intended outcomes.

References

Cashman, J., Linehan, P., Purcell, L., Rosser, M., Schultz, S., & Skalski, S. (2014). Leading by convening: A blueprint for authentic engagement. Alexandria, VA: National Association of State Directors of Special Education.

U.S. Government Accountability Office. (July 12, 2012). Students with Disabilities: Better Federal Coordination Could Lessen Challenges in the Transition from High School (GAO-12-594). Washington, DC: Government Printing Office.

Waiver of Proposed Rulemaking: Under the Administrative Procedure Act (APA) (5 U.S.C. 553) the Department generally offers interested parties the opportunity to comment on proposed priorities and requirements. Section 437(d)(1) of GEPA, however, allows the Secretary to exempt from this rulemaking requirement regulations governing the first grant competition under a new or substantially revised program authority. This is the first TA grant competition for this program under the Consolidated Appropriations Act, 2012 (Pub. L. 112-74), as incorporated into the Consolidated and Further Continuing Appropriations Act, 2013, (Pub. L. 113-6), and therefore qualifies for this exception. In order to ensure timely grant awards, the Secretary has decided to forego public comment on the priority. This priority will apply to the FY 2014 grant competition only and any subsequent year in which we make awards from the list of unfunded applicants from this competition.

Program Authority: Consolidated Appropriations Act, 2012 (Pub. L. 112-74), as incorporated into the Consolidated and Further Continuing Appropriations Act, 2013, (Pub. L. 113-6).

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to institutions of higher education (IHEs) only.

II. Award Information

Type of Award: Cooperative agreement.

Estimated Available Funds: $2,000,000.

Maximum Award: We will reject any application that proposes a budget exceeding $500,000 for a single budget period of 12 months. The Assistant Secretary for the Office of Special Education and Rehabilitative Services may change the maximum amount through a notice published in the Federal Register.

Estimated Number of Awards: 1.

Note: The Department is not bound by any estimates in this notice.

Project Period: Up to 48 months.

III. Eligibility Information

1. Eligible Applicants: State educational agencies; local educational agencies (LEAs), including public charter schools that operate as LEAs and receive funding under Part B of IDEA; IHEs; other public agencies; private nonprofit organizations; outlying areas; freely associated States; Indian tribes or tribal organizations; and for-profit organizations.

2. Cost Sharing or Matching: This program does not require cost sharing or matching.

3. Other General Requirements:

(a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.418T.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 50 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in the application package.

3. Submission Dates and Times:

Applications Available: April 21, 2014.

Deadline for Transmittal of Applications: June 5, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 4, 2014.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov. and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the Promoting the Readiness of Minors in Supplemental Security Income (PROMISE) Technical Assistance Center competition, CFDA number 84.418T, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Promoting the Readiness of Minors in Supplemental Security Income (PROMISE) Technical Assistance Center competition at www.Grants.gov. You must search for the downloadable application package for this competition by the CFDA number. Do not include the CFDA number's alpha suffix in your search (e.g., search for 84.418, not 84.418T).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Corinne Weidenthal, U.S. Department of Education, 400 Maryland Avenue SW., Room 4115, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.418T), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.418T), 550 12th Street SW., Room 7039, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Department will work with the grantee to develop project performance measures based on the measurable goals, objectives, and intended outcomes of the Center, consistent with the priority's application and administrative requirements in paragraph(c) under the “Quality of the Evaluation Plan.”

Note: The following Web site provides more information on writing performance measures: http://www.tadnet.org/pages/589.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Corinne Weidenthal, U.S. Department of Education, 400 Maryland Avenue SW., Room 4115, PCP, Washington, DC 20202-2600. Telephone: (202) 245-6529.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 14, 2014.
Michael K. Yudin,
Acting Assistant Secretary for Special Education and Rehabilitative Services.

[FR Doc. 2014-08964 Filed 4-18-14; 8:45 am]

BILLING CODE 4000-01-P